DEPARTMENT OF ENERGY

Federal Energy Regulatory Commission

[Docket No. PF09-1-000]

Tennessee Gas Pipeline Company; Supplemental Notice of Intent to Prepare an Environmental Assessment for the Planned 300 Line Project and Request for Comments on Environmental Issues

June 17, 2009.

As previously noticed on February 4, 2009, and supplemented herein, the staff of the Federal Energy Regulatory Commission (FERC or Commission) is preparing an environmental assessment (EA) that will discuss the environmental impacts that could result from the construction and operation of the 300 Line Project. The project is planned by Tennessee Gas Pipeline Company (TGP) to expand the natural gas transportation capacity of its existing 300 Line pipeline in northern Pennsylvania and northwestern New Jersey. The EA will be used by the Commission in its decision-making process to determine whether the project is in the public convenience and necessity.

This Supplemental Notice of Intent (NOI) announces the opening of a limited scoping period the Commission will use to gather input from the public and interested agencies on a new alternative which will be included in the EA, identified as the Eastern Alternative Loop. This alternative consists of about 2.2 miles at the eastern end of the planned Loop 325 in Passaic County, New Jersey and would replace 2.0 miles at the western end of Loop 325. Use of the alternative would avoid crossing the Wallkill River National Wildlife Refuge (WRNWR) in Sussex County, New Jersey, if it is found to be feasible in meeting the project objectives. Your input will help determine what issues need to be evaluated in the EA regarding use of the Eastern Alternative Loop. Please note that this limited scoping period will close on July 17, 2009.

This notice is being sent to landowners who would be affected by the Eastern Alternative Loop (including those that would no longer be affected by the 300 Line Project if this alternative is ultimately approved by the Commission); Federal, State, and local government representatives and agencies; environmental and public interest groups; Native American tribes; other interested parties; and local libraries and newspapers. We encourage government representatives to notify their constituents of the Eastern Alternative Loop and encourage them to comment on their areas of concern.

If you are a landowner receiving this notice, you may be contacted by a pipeline company representative about the acquisition of an easement to construct, operate, and maintain the planned facilities. The pipeline company would seek to negotiate a mutually acceptable agreement. However, if the 300 Line Project is approved by the Commission, that approval conveys with it the right of eminent domain. Therefore, if easement negotiations fail to produce an agreement, the pipeline company could initiate condemnation proceedings in accordance with State law.

A fact sheet prepared by the FERC entitled “An Interstate Natural Gas Facility on My Land? What Do I Need To Know?” is available for viewing on the FERC Internet Web site (http://www.ferc.gov). This fact sheet addresses a number of typically asked questions, including the use of eminent domain and how to participate in the Commission's proceedings.

Summary of the Planned Project

TGP plans to request authorization to construct, own, and operate the facilities necessary to increase natural gas delivery capacity to the northeast region of the United States by approximately 300,000 dekatherms per day. In addition to increasing natural gas delivery capacity to the region, TGP would also upgrade certain existing compressor units to improve overall system reliability.

The 300 Line Project would consist of the following facilities:

• Installation of approximately 128.4 miles of new 30-inch-diameter pipeline and associated appurtenant aboveground facilities in seven separate looping ¹ segments in Potter, Tioga, Bradford, Susquehanna, Wayne, and Pike Counties, Pennsylvania; and Sussex and Passaic Counties, New Jersey;

¹ A loop is a segment of pipeline that is usually installed adjacent to an existing pipeline and connected to it at both ends. The loop allows more gas to be moved through the system.

• construction of new compressor stations in Venango and McKean Counties, Pennsylvania;

• modifications to seven existing compressor stations in Potter, Tioga, Bradford, Susquehanna, and Pike Counties, Pennsylvania, and Sussex County, New Jersey, and to an existing meter station in Bergen County, New Jersey; and

• installation of associated appurtenant aboveground facilities including mainline valves and pig ² launchers and receivers.

² A pig is an internal tool that can be used to clean and dry a pipeline and/or to inspect it for damage or corrosion.

Eastern Alternative Loop

This supplemental NOI concerns only TGP's planned Loop 325 in Sussex and Passaic Counties, New Jersey. Planned Loop 325 would begin at milepost (MP) 0.0 in Sussex County, and terminate at MP 17.3 in Passaic County. As planned, Loop 325 would cross the WRNWR from approximate MPs 1.0 to 1.8.

The Eastern Alternative Loop would begin approximately 2.0 miles to the east of MP 0.0 and end approximately 2.2 miles to the east of MP 17.3. Thus, the alternative would avoid impacts from MPs 0.0 to 2.0 of Loop 325, including the WRNWR, but would impact areas that would not be affected by TGP's Loop 325 configuration. The route would remain as initially planned for the approximately 15.3-mile-long segment between the eastern and western portions of the loop whether the Commission would approve either the planned Loop 325 or the Eastern Alternative Loop.

Maps depicting Loop 325 and Eastern Alternative Loop are included in appendix 1.³

³ The appendices referenced in this notice are not being printed in the Federal Register but were sent to all those receiving this notice in the mail. Copies of all appendices are available at http://www.ferc.gov using the link called “eLibrary” or from the Commission's Public Reference Room, 888 First Street, NE., Washington, DC 20426, or call (202) 502-8371. For instructions on connecting to eLibrary, refer to the last page of this notice.

Land Requirements

We have requested that TGP provide additional information regarding the Eastern Alternative Loop. However, because the length of Loop 325 is similar for TGP's planned configuration and the Eastern Alternative Loop, land requirements for either configuration are expected to be similar. In general, Loop 325 would be located within and directly adjacent to the existing 300 Line right-of-way and at a typical offset of 25 feet from the existing pipeline to the extent practicable. The area temporarily disturbed during construction but not required for operation would generally be allowed to revert to pre-construction condition and uses. The area required for operation of Loop 325 would vary depending on the width of TGP's existing right-of-way, but would generally be maintained in an herbaceous state. Permanent structures such as buildings would not be allowed within the new, permanent right-of-way.

The EA Process

The National Environmental Policy Act (NEPA) requires the Commission to take into account the environmental impacts that could result from an action whenever it considers the issuance of a Certificate of Public Convenience and Necessity. NEPA also requires us ⁴ to discover and address concerns the public may have about proposals. This process is referred to as “scoping.” The main goal of the scoping process is to focus the analysis in the EA on the important environmental issues. By this supplemental NOI, the Commission requests public comments on the scope of the issues to address in the EA regarding the Eastern Alternative Loop. All comments received will be considered during the preparation of the EA. State and local government representatives are encouraged to notify their constituents of this proposed action and encourage them to comment on their areas of concern.

⁴ “We”, “us”, and “our” refer to the environmental staff of the Office of Energy Projects (OEP).

In the EA, we will compare impacts that could occur as a result of the construction and operation of Loop 325 under these general headings:

• Geology and soils;

• land use;

• water resources, fisheries, and wetlands;

• cultural resources;

• vegetation and wildlife;

• air quality and noise;

• endangered and threatened species; and

• public safety.

We will also evaluate possible alternatives to the planned project or portions of the project, including the Eastern Alternative Loop. Our analysis will also include recommendations on how to lessen or avoid impacts on the various resource areas. Although no formal application has been filed, we have already initiated our NEPA review under the Commission's Pre-filing Process. The purpose of the Pre-Filing Process is to encourage early involvement of interested stakeholders and to identify and resolve issues before an application is filed with the FERC. As part of our Pre-filing Process review, we have contacted Federal and State agencies to discuss their involvement in the scoping process and the preparation of the EA. The FERC is the lead Federal agency in the preparation of the EA, and the U.S. Army Corps of Engineers and the U.S. Bureau of Land Management have agreed to participate as cooperating agencies in the preparation of the EA to satisfy their respective NEPA responsibilities. Representatives from the FERC also participated in public open houses sponsored by TGP in the project area in December 2008 and January 2009, to explain the environmental review process to interested stakeholders. The initial NOI for this project was issued by the FERC on February 4, 2009. In addition, we conducted three public scoping meetings in the project area to hear public concerns and comments on the planned project. One of these scoping meetings was held near Loop 325 in Vernon, New Jersey, on February 24, 2009.

Our independent analysis of the issues will be presented in the EA. The EA will be published and mailed to the entities on our mailing list (see discussion on how to remain on our list under Environmental Mailing List below). A 30-day comment period will be allotted for review of the EA. We will consider all comments on the EA before we make our recommendations to the Commission. To ensure your comments are considered, please carefully follow the instructions in the Public Participation section below.

Currently Identified Environmental Issues

We have already identified several issues that we think deserve attention based on a preliminary review of Loop 325 and the Eastern Alternative Loop. This preliminary list of issues may be changed based on your comments and our analysis:

• Impacts on the WRNWR, which would be crossed by the planned Loop 325 but avoided by the Eastern Alternative Loop;

• impacts on lands under jurisdiction of the New Jersey Highlands Act;

• potential impacts on nearby residences;

• aesthetic impacts, including the loss of trees in forested areas; and

• potential impacts on threatened or endangered species including the Indiana bat and the bog turtle.

Public Participation

You can make a difference by providing us with your specific comments or concerns about the Eastern Alternative Loop. Your comments should focus on the potential environmental effects, reasonable alternatives, and measures to avoid or lessen environmental impacts. The more specific your comments, the more useful they will be. To ensure that your comments are timely and properly recorded, please send in your comments so that they will be received in Washington, DC on or before July 17, 2009.

For your convenience, there are three methods you can use to submit your written comments to the Commission. In all instances, please reference the project docket number PF09-1-000 with your submission. The Commission encourages electronic filing of comments and has dedicated eFiling expert staff available to assist you at 202-502-8258 or efiling@ferc.gov.

(1) You may file your comments electronically by using the Quick Comment feature, which is located on the Commission's Web site at http://www.ferc.gov under the link to Documents and Filings. A Quick Comment is an easy method for interested persons to submit text-only comments on a project;

(2) You may file your comments electronically by using the eFiling feature, which is located on the Commission's Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

(3) You may file your comments via mail to the Commission by sending an original and two copies of your letter to:

Kimberly D. Bose, Secretary, Federal Energy Regulatory Commission, 888 First Street, NE., Room 1A, Washington, DC 20426.

In all instances, please reference the project docket number PF09-1-000 with your submission. Label one copy of the comments for the attention of Gas Branch 1, PJ-11.1.

Environmental Mailing List

An effort is being made to send this notice to all individuals, organizations, and government entities interested in and/or potentially affected by the first 2.0 miles of the planned Loop 325 and the last 2.2 miles of the Eastern Alternative Loop. This includes all landowners who are potential right-of-way grantors or whose property may be used temporarily for project purposes.

If you do not want to send comments at this time but still want to remain on our mailing list, please return the Information Request (Appendix 2). If you do not return the Information Request, you will be taken off the mailing list.

Becoming an Intervenor

Once TGP formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that you may not request intervenor status at this time; you must wait until the formal application is filed with the Commission.

Availability of Additional Information

Additional information about the project is available from the Commission's Office of External Affairs, at 1-866-208-FERC or on the FERC Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Public meetings or site visits will be posted on the Commission's calendar located at http://www.ferc.gov/EventCalendar/EventsList.aspx along with other related information.

Finally, to request additional information on the project or to provide comments directly to the project sponsor, you can contact TGP directly by calling toll free at 1-866-683-5587. Also, TGP has established a Web site at http://www.elpaso.com/tgp300lineproject/. The Web site includes a description of the project, an overview map of the planned facilities, and links to related documents. TGP will update the Web site as the environmental review of its project proceeds.

Kimberly D. Bose,
Secretary.

[FR Doc. E9-14785 Filed 6-23-09; 8:45 am]

BILLING CODE 6717-01-P